DEPARTMENT OF COMMERCE

National Oceanic and Atmospheric Administration

RIN 0648-XA050

National Saltwater Angler Registry Program

AGENCY: National Marine Fisheries Service (NMFS), National Oceanic and Atmospheric Administration (NOAA), Commerce.

ACTION: Notice.

SUMMARY: NMFS has established an annual fee of fifteen dollars ($15.00) for registration of anglers, spear fishers and for-hire fishing vessels to register under the National Saltwater Angler Registry Program.

DATES: The registration fee will be required effective January 1, 2011.

ADDRESSES: Gordon C. Colvin, Fishery Biologist, NMFS ST-12453, 1315 East-West Highway, Silver Spring, MD 20910.

FOR FURTHER INFORMATION CONTACT: Gordon C. Colvin, Fishery Biologist; (301) 713-2367 x175; e-mail: Gordon.Colvin@noaa.gov.

SUPPLEMENTARY INFORMATION: The final rule implementing the National Saltwater Angler Registry Program, 50 CFR part 600, subpart P, was published in the Federal Register on December 30, 2008. The final rule states that persons registering with NMFS must pay an annual fee effective January 1, 2011, and that NMFS will publish the annual schedule for such fees in the Federal Register.

NMFS has determined that the annual registration fee for anglers, spear fishers and for-hire fishing vessels will be fifteen dollars ($15.00). All persons registering on or after January 1, 2011 will be required to pay the registration fee, unless they are exempt as indigenous people per the provisions of 50 CFR 600.1410(f).

Dated: November 22, 2010.
Eric C. Schwaab,
Assistant Administrator for Fisheries, National Marine Fisheries Service.

[FR Doc. 2010-29810 Filed 11-24-10; 8:45 am]

BILLING CODE 3510-22-P